DEPARTMENT OF AGRICULTURE

Submission for OMB Review; Comment Request

December 7, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 10, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal Plant and Health Inspection Service

Title: Control and Eradication of African Swine Fever; Conditions for Payment of Indemnity Claims.

OMB Control Number: 0579-New.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material if required to prevent the spread of any livestock or poultry pest or disease. The AHPA is contained in Title X, Subtitle E, Sections 10401-18 of Public Law 107-171, May 13, 2002, the Farm Security and Rural Investment Act of 2002; 7 U.S.C. 8301, et seq.

Part of the mission of the Veterinary Services (VS) business unit of the Animal and Plant Health Inspection Service (APHIS) is preventing foreign animal disease outbreaks in the United States, and monitoring, controlling, and eliminating a disease outbreak should one occur. In the past several years, there have been significant worldwide outbreaks of African swine fever (ASF) and the USDA is committed to working with State and industry partners to keep the virus out of the United States and its territories.

Need and Use of the Information: VS or State personnel, as part of incident management team operations, will collect from herd owners or growers of ASF presumptive positive or positive premises information needed to reimburse the owners or growers for the value of any animals taken and develop a plan for virus elimination so the owner or grower can return to normal business operations.

If the information were conducted less frequently or not at all, APHIS would not be able to develop disease mitigation plans or properly reimburse producers and herd owners for their lost inventory.

Description of Respondents: Businesses or other for-profit; State, Local, and Tribal governments.

Number of Respondents: 40,050.

Frequency of Responses: Reporting: On occasion.

Total Burden Hours: 2,538,300.

Ruth Brown,
Departmental Information Collection Clearance Officer.

[FR Doc. 2021-26830 Filed 12-9-21; 8:45 am]

BILLING CODE 3410-34-P